DEPARTMENT OF ENERGY

Federal Energy Regulatory Commission

Combined Notice of Filings #1

July 12, 2010.

Take notice that the Commission received the following electric corporate filings:

Docket Numbers: EC10-77-000.

Applicants: E.ON U.S. LLC, PPL Corporation.

Description: Application for Authorization Under section 203 of the Federal Power Act, Request for Waivers of Filing Requirements and Confidential Treatment of Agreement and Work Papers of PPL Corporation and E.ON U.S. LLC.

Filed Date: 06/28/2010.

Accession Number: 20100628-5186.

Comment Date: 5 p.m. e.t. on Monday, August 30, 2010.

Docket Numbers: EC10-80-000.

Applicants: Entegra Power, Sundevil Power Holdings LLC, Gila River Power, L.P.

Description: Joint Application for Authorization Under section 203 of the FPA, Request for Waiver of Certain Commission Requirements, and Requests for Confidential Treatment and Expedited Treatment of Entegra Power Group LLC, et al.

Filed Date: 07/08/2010.

Accession Number: 20100708-5122.

Comment Date: 5 p.m. e.t. on Thursday, July 29, 2010.

Take notice that the Commission received the following electric rate filings:

Docket Numbers: ER01-48-018.

Applicants: Powerex Corp.

Description: Application of Powerex Corp. for designation as a Category 1 Seller etc.

Filed Date: 07/08/2010.

Accession Number: 20100708-5115.

Comment Date: 5 p.m. e.t. on Thursday, July 29, 2010.

Docket Numbers: ER01-3103-023.

Applicants: Astoria Energy LLC.

Description: Astoria Energy LLC response to Commission inquiry (July 9, 2010).

Filed Date: 07/09/2010.

Accession Number: 20100709-5087.

Comment Date: 5 p.m. e.t. on Friday, July 30, 2010.

Docket Numbers: ER08-656-007.

Applicants: Shell Energy North America (U.S.), L.P.

Description: Supplement to Updated Market Power Analysis for the Southwest Power Pool Region of Shell Energy North America (US), L.P.

Filed Date: 07/09/2010.

Accession Number: 20100709-5098.

Comment Date: 5 p.m. e.t. on Friday, July 30, 2010.

Docket Numbers: ER10-1047-001.

Applicants: Pacific Gas and Electric Company.

Description: Compliance Refund Report of Pacific Gas and Electric Company Service Agreement for Wholesale Distribution Service and Interconnection Agreement with Monterey Regional Waste Management District.

Filed Date: 07/07/2010.

Accession Number: 20100707-5128.

Comment Date: 5 p.m. e.t. on Wednesday, July 28, 2010.

Docket Numbers: ER10-1113-001.

Applicants: Pacific Gas and Electric Company.

Description: Pacific Gas and Electric Company submits tariff filing per 35: Compliance Filing to Revise WD Tariff to be effective 4/28/2010.

Filed Date: 07/09/2010.

Accession Number: 20100709-5046.

Comment Date: 5 p.m. et. on Friday, July 30, 2010.

Docket Numbers: ER10-1388-001.

Applicants: Laredo Ridge Wind, LLC.

Description: Laredo Ridge Wind, LLC submits a supplement to its market-based rate tariff application.

Filed Date: 07/08/2010.

Accession Number: 20100709-0207.

Comment Date: 5 p.m. e.t. on Thursday, July 29, 2010.

Docket Numbers: ER10-1389-001.

Applicants: Taloga Wind, LLC.

Description: Taloga Wind, LLC submits a supplement to its Market-Based Rate Application.

Filed Date: 07/08/2010.

Accession Number: 20100709-0206.

Comment Date: 5 p.m. e.t. on Thursday, July 29, 2010.

Docket Numbers: ER10-1406-001.

Applicants: Lake Cogen, Ltd.

Description: Lake Cogen, Ltd. submits tariff filing per 35: Lake Cogen—FERC Electric Tariff, Volume No. 1 to be effective 6/9/2010.

Filed Date: 07/08/2010.

Accession Number: 20100708-5046.

Comment Date: 5 p.m. e.t. on Thursday, July 29, 2010.

Docket Numbers: ER10-1416-001.

Applicants: Pasco Cogen, Ltd.

Description: Pasco Cogen, Ltd. submits tariff filing per 35: Pasco Cogen—FERC Electric Tariff, Volume No. 1, to be effective 6/10/2010.

Filed Date: 07/08/2010.

Accession Number: 20100708-5054.

Comment Date: 5 p.m. e.t. on Thursday, July 29, 2010.

Docket Numbers: ER10-1723-001.

Applicants: Wisconsin Electric Power Company.

Description: Wisconsin Electric Power Company submits amendment to revisions to the Formula Rate Tariff to be effective 9/1/10.

Filed Date: 07/08/2010.

Accession Number: 20100709-0205.

Comment Date: 5 p.m. e.t. on Thursday, July 29, 2010.

Docket Numbers: ER10-1724-001.

Applicants: Wisconsin Electric Power Company.

Description: Wisconsin Electric Power Company submits amendment to certain tariff revisions to the Restated Power Service Agreement with WPPI Energy to be effective 9/1/10.

Filed Date: 07/08/2010.

Accession Number: 20100709-0204.

Comment Date: 5 p.m. e.t. on Thursday, July 29, 2010.

Docket Numbers: ER10-1730-000.

Applicants: Great Bay Energy, LLC.

Description: Great Bay Energy, LLC et al submits an Application for Market-Based Rate Authorization, Designation of Category 1 Status et al.

Filed Date: 07/08/2010.

Accession Number: 20100708-0205.

Comment Date: 5 p.m. e.t. on Thursday, July 29, 2010.

Docket Numbers: ER10-1731-000.

Applicants: Great Bay Energy I, LLC.

Description: Great Bay Energy, LLC et al submits an Application for Market-Based Rate Authorization, Designation of Category 1 Status et al.

Filed Date: 07/08/2010.

Accession Number: 20100708-0205.

Comment Date: 5p.m. e.t. on Thursday, July 29, 2010.

Docket Numbers: ER10-1734-000.

Applicants: MXenergy Electric Inc.

Description: MXenergy Electric Inc. submits tariff filing per 35.12: MXenergy Electric Inc. MBR Tariff to be effective 7/8/2010.

Filed Date: 07/08/2010.

Accession Number: 20100708-5062.

Comment Date: 5 p.m. e.t. on Thursday, July 29, 2010.

Docket Numbers: ER10-1735-000.

Applicants: California Independent System Operator Corporation.

Description: California Independent System Operator Corporation submits tariff filing per 35.13(a)(2)(iii): 2010-07-08 CAISO New Markets Recalculation Window to be effective 10/6/2010.

Filed Date: 07/08/2010.

Accession Number: 20100708-5089.

Comment Date: 5 p.m. e.t. on Thursday, July 29, 2010.

Docket Numbers: ER10-1736-000.

Applicants: Wisconsin Electric Power Company.

Description: Wisconsin Electric Power Company submits revisions to the Restated Power Service Agreement with Alger Delta Cooperative Electric Association, effective 9/1/10.

Filed Date: 07/08/2010.

Accession Number: 20100709-0203.

Comment Date: 5 p.m. e.t. on Thursday, July 29, 2010.

Docket Numbers: ER10-1737-000.

Applicants: Wisconsin Electric Power Company.

Description: Wisconsin Electric Power Company submits certain tariff revisions to the Restated Power Service Agreement etc to be effective 9/1/10.

Filed Date: 07/08/2010.

Accession Number: 20100709-0202.

Comment Date: 5 p.m. e.t. on Thursday, July 29, 2010.

Docket Numbers: ER10-1738-000.

Applicants: Wisconsin Electric Power Company.

Description: Wisconsin Electric Power Co submits revisions to the Restated Power Service Agreement to be effective 9/1/10.

Filed Date: 07/08/2010.

Accession Number: 20100709-0201.

Comment Date: 5 p.m. e.t. on Thursday, July 29, 2010.

Docket Numbers: ER10-1739-000.

Applicants: Entergy Arkansas, Inc.

Description: Entergy Arkansas, Inc. submits tariff filing per 35.12: Entergy OpCos OATT Baseline to be effective 7/9/2010.

Filed Date: 07/09/2010.

Accession Number: 20100709-5054.

Comment Date: 5 p.m. e.t. on Friday, July 30, 2010.

Docket Numbers: ER10-1740-000.

Applicants: PJM Interconnection, L.L.C.

Description: PJM Interconnection, LLC submits an executed interconnection service agreement and interconnection construction service agreement etc.

Filed Date: 07/09/2010.

Accession Number: 20100709-0209.

Comment Date: 5 p.m. e.t. on Friday, July 30, 2010.

Docket Numbers: ER10-1741-000.

Applicants: Duquesne Light Company.

Description: Duquesne Light Company submits its Notice of Cancellation of the Connection and Site Agreement etc.

Filed Date: 07/09/2010.

Accession Number: 20100709-0208.

Comment Date: 5 p.m. e.t. on Friday, July 30, 2010.

Docket Numbers: ER10-1742-000.

Applicants: Entergy Gulf States Louisiana, L.L.C.

Description: Entergy Gulf States Louisiana, L.L.C. submits tariff filing per 35.12: EGSL OATT Concurrence to be effective 12/31/1998.

Filed Date: 07/09/2010.

Accession Number: 20100709-5060.

Comment Date: 5 p.m. e.t. on Friday, July 30, 2010.

Docket Numbers: ER10-1743-000.

Applicants: Public Service Electric and Gas Company, PSEG Energy Resources & Trade LLC, PSEG Power Connecticut LLC, PSEG Fossil LLC, PSEG Nuclear LLC.

Description: Request for Waiver of Commission's Affiliate Restrictions Regulations under 18 CFR 35.39 of the PSEG Companies.

Filed Date: 07/09/2010.

Accession Number: 20100709-5092.

Comment Date: 5 p.m. e.t. on Friday, July 30, 2010

Docket Numbers: ER10-1744-000.

Applicants: Entergy Texas, Inc.

Description: Entergy Texas, Inc. submits tariff filing per 35.12: ETI OATT Concurrence to be effective 7/9/2010.

Filed Date: 07/09/2010.

Accession Number: 20100709-5100.

Comment Date: 5 p.m. e.t. on Friday, July 30, 2010.

Docket Numbers: ER10-1745-000.

Applicants: Entergy Louisiana, LLC.

Description: Entergy Louisiana, LLC submits tariff filing per 35.12: ELL OATT Concurrence to be effective 7/9/2010.

Filed Date: 07/09/2010.

Accession Number: 20100709-5113.

Comment Date: 5 p.m. e.t. on Friday, July 30, 2010.

Docket Numbers: ER10-1746-000.

Applicants: Entergy Mississippi, Inc.

Description: Entergy Mississippi, Inc. submits tariff filing per 35.12: EMI Baseline to be effective 7/9/2010.

Filed Date: 07/09/2010.

Accession Number: 20100709-5114.

Comment Date: 5 p.m. e.t. on Friday, July 30, 2010.

Docket Numbers: ER10-1747-000.

Applicants: Entergy New Orleans, Inc.

Description: Entergy New Orleans, Inc. submits tariff filing per 35.12: ENOI OATT Concurrence to be effective 7/9/2010.

Filed Date: 07/09/2010.

Accession Number: 20100709-5115.

Comment Date: 5 p.m. e.t. on Friday, July 30, 2010.

Docket Numbers: ER10-1748-000.

Applicants: Ormet Power Marketing, LLC.

Description: Ormet Power Marketing LLC submits Notice of Cancellation of FERC Electric Rate Schedule No 1.

Filed Date: 07/09/2010.

Accession Number: 20100712-0200.

Comment Date: 5 p.m. e.t. on Friday, July 30, 2010.

Docket Numbers: ER10-1749-000.

Applicants: ISO New England Inc.

Description: Request of ISO New England, Inc for limited waiver of NAESB WEQ Standards.

Filed Date: 07/09/2010.

Accession Number: 20100712-0201.

Comment Date: 5 p.m. e.t. on Friday, July 30, 2010

Docket Numbers: ER10-1750-000.

Applicants: Stream Energy Pennsylvania, LLC.

Description: Application of Stream Energy Pennsylvania, LLC for market-based rate authority and granting of waivers and blanket authorizations.

Filed Date: 07/09/2010.

Accession Number: 20100712-0202.

Comment Date: 5 p.m. e.t. on Friday, July 30, 2010.

Docket Numbers: ER10-1751-000.

Applicants: SGE Energy Sourcing, LLC.

Description: SGE Energy Sourcing, LLC submits Application for Market-Based Rate Authority and Granting of Waivers and Blanket Authorization.

Filed Date: 07/09/2010.

Accession Number: 20100712-0203.

Comment Date: 5 p.m. e.t. on Friday, July 30, 2010.

Docket Numbers: ER10-1752-000.

Applicants: PacifiCorp.

Description: PacifiCorp submits the Fifth Revised Agreement 66, a Network Integration Transmission Service Agreement.

Filed Date: 07/09/2010.

Accession Number: 20100712-0204.

Comment Date: 5 p.m. e.t. on Friday, July 30, 2010.

Take notice that the Commission received the following open access transmission tariff filings:

Docket Numbers: OA08-26-004.

Applicants: Puget Sound Energy, Inc.

Description: Compliance Filing of Puget Sound Energy, Inc.

Filed Date: 07/09/2010.

Accession Number: 20100709-5097.

Comment Date: 5 p.m. e.t. on Friday, July 30, 2010

Any person desiring to intervene or to protest in any of the above proceedings must file in accordance with Rules 211 and 214 of the Commission's Rules of Practice and Procedure (18 CFR 385.211 and 385.214) on or before 5 p.m. e.t. on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed docket(s). For assistance with any FERC Online service, please e-mail FERCOnlineSupport@ferc.gov. or call (866) 208-3676 (toll free). For TTY, call (202) 502-8659.

Kimberly D. Bose,
Secretary.

[FR Doc. 2010-17546 Filed 7-16-10; 8:45 am]

BILLING CODE 6717-01-P